OFFICE OF MANAGEMENT AND BUDGET

Office of Federal Procurement Policy

Improving Contracting Officers' Access to Relevant Integrity Information

AGENCY: Office of Federal Procurement Policy, Office of Management and Budget.

ACTION: Notice of Request for Comment.

SUMMARY: The Office of Federal Procurement Policy is publishing this notice to advise the public that it has developed a Request for Comment to invite comment from the public on whether changes to current regulations and other guidance might improve contracting officers' access to relevant information about contractor business ethics in the Federal Awardee Performance and Integrity Information System (FAPIIS). FAPIIS is designed to facilitate the Government's ability to evaluate the business ethics of prospective contractors and protect the Government from awarding contracts to contractors that are not responsible sources.

DATES: Interested parties should submit comments in writing to one of the addresses identified in the full notice on or before September 17, 2012.

FOR FURTHER INFORMATION CONTACT: Mr. Ryan Burnette, OFPP, at (202) 395-7724 or rburnette@omb.eop.gov.

SUPPLEMENTARY INFORMATION: To access the full notice, commenters should download the PDF at: http://www.whitehouse.gov/sites/default/files/omb/procurement/frn/frn-access-to-relevant-integrity-information-public-comments.pdf.

Joseph G. Jordan,
Administrator, Office of Federal Procurement Policy.

[FR Doc. 2012-17262 Filed 7-17-12; 8:45 am]

BILLING CODE 3110-01-P